FEDERAL COMMUNICATIONS COMMISSION

[DA 15-535, DA 15-324, DA 14-1806]

Consumer Advisory Committee

AGENCY: Federal Communications Commission.

ACTION: Notice.

SUMMARY: The Commission announces renewal of charter, appointment of members and designation of chairperson of its Consumer Advisory Committee (Committee). The Commission further announces the Committee's next meeting date, time, and agenda. The mission of the Committee is to make recommendations to the Commission regarding consumer issues within the jurisdiction of the Commission and to facilitate the participation of consumers (including underserved populations, such as Native Americans, persons living in rural areas, older persons, people with disabilities, and persons for whom English is not their primary language) in proceedings before the Commission.

DATES: The meeting of the Committee will take place on Friday June 12, 2015, 9:00 a.m. to 4:00 p.m., at the Commission's Headquarters Building, Commission Meeting Room TW-C305.

ADDRESSES: Federal Communications Commission, 445 12th Street SW., Washington, DC 20554.

FOR FURTHER INFORMATION CONTACT: Scott Marshall, Consumer and Governmental Affairs Bureau, (202) 418-2809 (voice or Relay), or email Scott.Marshall@fcc.gov.

SUPPLEMENTARY INFORMATION: This is a summary of the Commission's documents [DA 15-535] dated and released May 5, 2015, [DA 15-324] dated and released March 17, 2015 and [DA-14-1806] dated and released December 10, 2014.

By Public Notice [DA 14-1806] dated and released December 10, 2014, the Commission announced the renewal of the Committee for an eighth two year term, and solicited applications for membership thereon. This renewal was necessary and in the public interest. Numerous applications were received through January 20, 2015, at which time the period for receipt of applications closed.

On March 12, 2015, the Commission released a Report and Order on Remand, Declaratory Ruling, and Order in the Matter of Protecting and Promoting the Open Internet (NG Docket No. 1428), adopted on February 26, 2015. The Commission's Open Internet Order directed the CAC to “formulate and submit to the Commission a proposed [Open Internet enhanced transparency rule] disclosure format, based on input from a broad range of stakeholders, within six months of the time that its new membership is reconstituted, but, in any event, no later than October 31, 2015.” This disclosure format must be accessible to persons with disabilities. The Commission stated its expectation that the CAC “will consider whether to propose the same or different formats for fixed and mobile broadband providers.” Additionally, the Commission expects the CAC to consider “whether and how a standard format for mobile broadband providers will allow providers to continue to differentiate their services competitively, as well as how mobile broadband providers can effectively disclose commercial terms to consumers regarding myriad plans in a manner that is not administratively burdensome.” This recommendation may serve as a potential safe harbor for broadband providers seeking to meet the Commission's Open Internet transparency requirements.

To assist the Committee in responding to this charge and in furtherance of the Committee's other responsibilities, the Commission, by public Notice [DA 15-324], dated and released March 17, 2015 announced a second solicitation of applications for membership on the Committee. Several additional applications were received through April 1, 2015, at which time the period for receipt of second round applications closed.

The Committee will operate in accordance with the provisions of the Federal Advisory Committee Act, 5 U.S.C. App. 2 (1988). Each meeting of the Committee will be open to the public. A notice of each meeting will be published in the Federal Register at least fifteen (15) days in advance of the meeting. Records will be maintained of each meeting and made available for public inspection.

During the Committee's eighth term, it is anticipated that the Committee will meet in Washington, DC for a minimum of two (2) one-day plenary meetings per year. In addition, as needed, working groups or subcommittees will be established to facilitate the Committee's work between meetings of the full Committee. Meetings will be fully accessible to individuals with disabilities.

Members must be willing to commit to a two (2) year term of service, and should be willing and able to attend a minimum of two (2) one-day plenary committee meetings per year in Washington, DC Committee members are also expected to participate in deliberations of at least one (1) working group or subcommittee.

Appointment of Members and Chairperson

By Public Notice [DA 15-535] dated and released May 5, 2015, the Commission announced the appointment of thirty-seven (37 members of the Committee. Of these, twenty-one (21) represent general consumer organizations/academia, two (2) represent disability organizations, eight (8) represent industry, four (4) represent regulators, one (1) represents seniors, and one (1) represents unions. The Committee's membership is designed to be representative of the Commission's many constituencies, and the diversity of the selected members will provide a balanced point of view as required by the Federal Advisory Committee Act. In addition, Chairman Wheeler reappoints Debra R. Berlyn representing the National Consumers League as Chairperson of the Committee. All appointments and reappointments are effective immediately and shall terminate October 21, 2016, or when the Committee is terminated, whichever is earlier.

The Committee's roster by organization name and primary representative is as follows:

(1) AARP—Christopher Baker

(2) American Consumer Institute—Stephen Pociask

(3) American Foundation for the Blind—Paul W. Schroeder

(4) American Indian Policy Institute, Arizona State University—Dr. Traci Morris

(5) Americans for Tax Reform—Katie McAuliffe

(6)Appalachian Regional Commission—Mark Defalco

(7) Benton Foundation—Amina Fazlullah

(8) California Western School of Law, New Media Rights—Art Neill

(9) Call For Action—Shirley Rooker

(10) Center for Democracy and Technology—Chris Calabrese

(11) Center for Media Justice/MAGNET—Hannah Sassaman

(12) CenturyLink—Melissa Newman

(13) Common Cause—Todd O'Boyle

(14) Communication Workers of America—Debbie Goldman

(15) Consumer Action—Ken McEldowney

(16) Consumer Electronics Association—Julie Kearney

(17) Consumer Federation of America—Irene E. Leech

(18) Deaf and Hard of Hearing Consumer Advocacy Network—Claude Stout

(19) Digital Policy Institute—Barry D. Umansky

(20) Free Press—Lauren Wilson

(21) Google, Inc.—Eve Anderson

(22) International Center for Law and Economics—Geoffrey A. Manne

(23) Massachusetts Department of Telecommunications and Cable—Joslyn Day

(24) National Association of Broadcasters—Ann West Bobeck

(25) National Association of Counties—Yejin Jang

(26) National Association of State Utility Consumer Advocates—Kenneth Mallory

(27) National Association of Telecommunications Officers and Administrators—Mitsuko R. Herrera

(28) National Cable and Telecommunications Association—Stephanie Podey

(29) National Consumer Law Center—Olivia Wein

(30) National Consumers League—Debra R. Berlyn (Chairperson)

(31) National Hispanic Media Coalition—Michael Scurato

(32) New America Foundation, Open Technology Institute—Laura Moy

(33) Program on Information Justice and Intellectual Property, Washington College of Law, American University—Victoria F. Phillips

(34) T-Mobile—Luisa L. Lancetti

(35) TRAIL—Christina Gagnier

(36) Verizon Communications, Inc.—Ann Berkowitz

(37) Wireless Internet Service Provider Association—Alex Phillips

Meeting Date, Time & Agenda

The first meeting of the Committee under its renewed charter will take place on June 12, 2015, from 9:00 a.m. to 4:00 p.m. at the Commission's headquarters building, Commission Meeting Room TW-C305, 445 12th Street SW., Washington, DC 20554.

At its June 12, 2015 meeting, the Committee will consider administrative and procedural matters relating to its functions and will also discuss development of a proposed Open Internet enhanced transparency rule disclosure format, as directed in the Commission's Open Internet Order referenced above.

The Committee may receive briefings from commission staff and/or outside speakers on issues of interest to the Committee. A limited amount of time will be available on the agenda for comments from the public. If time permits, the public may ask questions of presenters via the email address livequestions@fcc.gov or via Twitter using the hashtag #fcclive. In addition, the public may also follow the meeting on Twitter @fcc or via the Commission's Facebook page at www.facebook.com/fcc. Alternatively, members of the public may send written comments to: Scott Marshall, Designated Federal Officer of the Committee at the address provided above.

The meeting is open to the public and the site is fully accessible to people using wheelchairs or other mobility aids. Sign language interpreters, open captioning, assistive listening devices, and Braille copies of the agenda and committee roster will be provided on site. Meetings of the Committee are also broadcast live with open captioning over the Internet from the FCC Live Web page at www.fcc.gov/live/.

Other reasonable accommodations for people with disabilities are available upon request. The request should include a detailed description of the accommodation needed and contact information. Please provide as much advance notice as possible; last minute requests will be accepted, but may not be possible to fill. To request an accommodation, send an email to fcc504@fcc.gov or call the Consumer and Governmental Affairs Bureau at 202-418-0530 (voice), 202-418-0432 (TTY).

Federal Communications Commission.
Kris Anne Monteith,
Acting Chief, Consumer and Governmental Affairs Bureau.

[FR Doc. 2015-11859 Filed 5-14-15; 8:45 am]

BILLING CODE 6712-01-P